DEPARTMENT OF THE TREASURY

Submission for OMB Review; Comment Request

June 16, 2009.

The Department of Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before July 22, 2009 to be assured of consideration.

Alcohol and Tobacco Tax and Trade Bureau (ttb)

OMB Number: 1513-0116.

Type of Review: Extension.

Form: TTB F 5154.3.

Title: Bond for Drawback Under 26 U.S.C. 5131.

Description: Business that use taxpaid alcohol to manufacture nonbeverage products may file a claim for drawback (refund or remittance). Claims may be filed monthly or quarterly. Monthly claimants must file a bond on TTB F 5154.3 to protect the Government's interest.

Respondents: Businesses or other for-profits.

Estimated Total Burden Hours: 10 hours.

OMB Number: 1513-0121.

Type of Review: Extension.

Title: Labeling of major food allergens.

Description: The collection of information involves voluntary labeling of major food allergens used in the production of alcohol beverages and also involves petitions for exemption from full allergen labeling. The collection corresponds to the recent amendments to the FD&C Act in Title II of Public Law 108-282, 118 Stat.905.

Respondents: Businesses or other for-profits.

Estimated Total Burden Hours: 730 hours.

OMB Number: 1513-0115.

Type of Review: Extension.

Title: Usual and Customary Business Records Relating to Wine TTB REC 5120/1.

Description: TTB routinely inspects wineries' usual and customary business records to ensure the proper payment of wine excise taxes due to the Federal government.

Respondents: Businesses or other for-profits.

Estimated Total Burden Hours: 468 hours.

OMB Number: 1513-0114.

Type of Review: Extension.

Form: TTB F 5130.12.

Title: Beer for Exportation.

Description: Unpaid beer may be removed from a brewery for exportation without payment of the excise tax normally due on removal. In order to ensure that exportation took place as claimed and that untaxpaid beer does not reach domestic market TTB requires certification on Form 5130.12.

Respondents: Businesses or other for-profits.

Estimated Total Burden Hours: 5,940 hours.

Clearance Officer: Frank Foote, (202) 927-9347, Alcohol and Tobacco Tax and Trade Bureau, Room 200 East, 1310 G Street, NW., Washington, DC 20005.

OMB Reviewer: Shagufta Ahmed, (202) 395-7873, Office of Management and Budget, Room 10235, New Executive Office Building, Washington, DC 20503.

Celina Elphage,
Treasury PRA Clearance Officer.

[FR Doc. E9-14589 Filed 6-19-09; 8:45 am]

BILLING CODE 4810-31-P